DEPARTMENT OF JUSTICE

Notice of Lodging of Proposed Consent Decree Under the Clean Air Act

On December 20, 2017, the Department of Justice lodged a proposed consent decree with the United States District Court for the District of Arizona in the lawsuit entitled United States v. Apache Nitrogen Products, Inc., Civil Action No. 4:17-cv-00612-RCC.

The proposed consent decree resolves claims set forth in a filed complaint for civil penalties and injunctive relief against Apache Nitrogen Products, Inc. (“Apache” or “ANPI”) for allegedly violating the Arizona State Implementation Plan (the “Arizona SIP”), including the requirements for the Prevention of Significant Deterioration (“PSD”), as set forth in Arizona Administrative Code (“AAC”), which has been approved by the Environmental Protection Agency (“EPA”) under Section 110 of the Clean Air Act, 42 U.S.C. 7410, and for allegedly violating a federal standard of performance for new sources (“NSPS”) for nitric acid plants (40 CFR part 60, subpart G) promulgated under Section 111 of the Clean Air Act, 42 U.S.C. 7411.

Under the decree, Apache will perform a computer-simulated air flow study for a nitric acid production unit called “AOP-4” to determine, at a minimum, the feasibility of Selective Catalytic Reduction as a control technology. The results of the study will be submitted to Arizona Department of Environmental Quality (“ADEQ”), the permitting authority under the Arizona SIP, and ADEQ will make a Best Available Control Technology determination and issue an appropriate permit based on its finding. Under the proposed consent decree, Apache also will pay a civil penalty of $600,000.

The publication of this notice opens a period for public comment on the consent decree. Comments should be addressed to the Assistant Attorney General, Environment and Natural Resources Division, and should refer to United States v. Apache Nitrogen Products, Inc., D.J. Ref. No. 90-5-2-1-10736. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $ 15.50 (25 cents per page reproduction cost) payable to the United States Treasury.

Henry S. Friedman,
Assistant Section Chief, Environmental Enforcement Section, Environment and Natural Resources Division.

[FR Doc. 2017-27944 Filed 12-27-17; 8:45 am]

BILLING CODE 4410-15-P